POSTAL REGULATORY COMMISSION

[Docket Nos. MC2009-36 and CP2009-55; Order No. 260]

Priority Mail Contract

AGENCY: Postal Regulatory Commission.

ACTION: Notice.

SUMMARY: The Commission is noticing a recently-filed Postal Service request to add Priority Mail Contract 16 to the Competitive Product List. The Postal Service also has filed a related contract. This notice addresses procedural steps associated with these filings.

DATES: Comments are due August 6, 2009.

ADDRESSES: Submit comments electronically via the Commission's Filing Online system at http://www.prc.gov.

FOR FURTHER INFORMATION CONTACT: Stephen L. Sharfman, General Counsel, at 202-789-6820 or stephen.sharfman@prc.gov.

SUPPLEMENTARY INFORMATION:

I. Introduction

II. Notice of Filings

III. Ordering Paragraphs

I. Introduction

On July 24, 2009, the Postal Service filed a formal request pursuant to 39 U.S.C. 3642 and 39 CFR 3020.30 et seq. to add Priority Mail Contract 16 to the Competitive Product List.¹ The Postal Service asserts that Priority Mail Contract 16 is a competitive product “not of general applicability” within the meaning of 39 U.S.C. 3632(b)(3). The Postal Service states that prices and classification underlying the contract are supported by Governors' Decision No. 09-6 in Docket No. MC2009-25. Id. at 1. The Request has been assigned Docket No. MC2009-36.

¹ Request of the United States Postal Service to Add Priority Mail Contract 16 to Competitive Product List and Notice of Filing (Under Seal) of Contract and Supporting Data, July 24, 2009 (Request).

The Postal Service contemporaneously filed a contract related to the proposed new product pursuant to 39 U.S.C. 3632(b)(3) and 39 CFR 3015.5. The contract has been assigned Docket No. CP2009-55.

Request. The Request includes (1) a redacted version of the contract; (2) requested changes in the Mail Classification Schedule product list; (3) a Statement of Supporting Justification as required by 39 CFR 3020.32; and (4) certification of compliance with 39 U.S.C. 3633(a).² Substantively, the Request seeks to add Priority Mail Contract 16 to the Competitive Product List. Id. at 1-2.

² Attachment A to the Request is the redacted version of the contract. Attachment B shows the requested changes to the Mail Classification Schedule product list. Attachment C provides a statement of supporting justification for this Request. Attachment D provides the certification of compliance with 39 U.S.C. 3633(a).

In the statement of supporting justification, Mary Prince Anderson, Acting Manager, Sales and Communications, Expedited Shipping, asserts that the service to be provided under the contract will cover its attributable costs, make a positive contribution to institutional costs, and increase contribution toward the requisite 5.5 percent of the Postal Service's total institutional costs. Id., Attachment C. Thus, Ms. Anderson contends there will be no issue of subsidization of competitive products by market dominant products as a result of this contract. Id.

Related contract. A redacted version of the specific Priority Mail Contract 16 is included with the Request. The contract will become effective on the day that the Commission provides all necessary regulatory approvals. It is terminable upon 30 days' notice by a party, but could continue for 1 year without modification. The Postal Service represents that the contract is consistent with 39 U.S.C. 3633(a)(1). See id., Attachment D.

The Postal Service will provide the shipper with customized pricing for eligible Priority Mail items shipped by the shipper, as well as Priority Mail packaging and labels. A party may not assign the agreement without the other party's consent, which may not be unreasonably withheld.

The Postal Service filed much of the supporting materials, including the specific Priority Mail Contract 16, under seal. In its Request, the Postal Service maintains that the contract and related financial information, including the customer's name and the accompanying analyses that provide prices, terms, conditions, and financial projections should remain under seal. Id. at 2-3.

II. Notice of Filings

The Commission establishes Docket Nos. MC2009-36 and CP2009-55 for consideration of the Request pertaining to the proposed Priority Mail Contract 16 product and the related contract, respectively. In keeping with practice, these dockets are addressed on a consolidated basis for purposes of this order; however, future filings should be made in the specific docket in which issues being addressed pertain.

Interested persons may submit comments on whether the Postal Service's filings in the captioned dockets are consistent with the policies of 39 U.S.C. 3632, 3633, or 3642 and 39 CFR part 3015 and 39 CFR part 3020 subpart B. Comments are due no later than August 6, 2009. The public portions of these filings can be accessed via the Commission's Web site (http://www.prc.gov).

The Commission appoints Paul L. Harrington to serve as Public Representative in these dockets.

III. Ordering Paragraphs

It is ordered:

1. The Commission establishes Docket Nos. MC2009-36 and CP2009-55 for consideration of the matter raised in each docket.

2. Pursuant to 39 U.S.C. 505, Paul L. Harrington is appointed to serve as officer of the Commission (Public Representative) to represent the interests of the general public in these proceedings.

3. Comments by interested persons in these proceedings are due no later than August 6, 2009.

4. The Secretary shall arrange for publication of this order in the Federal Register.

Issued: July 29, 2009.
By the Commission.
Judith M. Grady,
Acting Secretary.

[FR Doc. E9-18768 Filed 8-4-09; 8:45 am]

BILLING CODE 7710-FW-P